DEPARTMENT OF THE TREASURY

Agency Information Collection Activities; Submission for OMB Review; Comment Request; U.S. Individual Income Tax Return

AGENCY: Departmental Offices, U.S. Department of the Treasury.

ACTION: Notice.

SUMMARY: The Department of the Treasury will submit the following information collection request to the Office of Management and Budget (OMB) for review and clearance in accordance with the Paperwork Reduction Act of 1995, on or after the date of publication of this notice. The public is invited to submit comments on this request.

DATES: Comments should be received on or before January 17, 2020 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Spencer W. Clark by emailing PRA@treasury.gov, calling (202) 927-5331, or viewing the entire information collection request at www.reginfo.gov.

SUPPLEMENTARY INFORMATION:

PRA Approval of Forms Used by Individual Taxpayers

Under the PRA, OMB assigns a control number to each ”collection of information” that it reviews and approves for use by an agency. The PRA also requires agencies to estimate the burden for each collection of information. Burden estimates for each control number are displayed in (1) PRA notices that accompany collections of information, (2) Federal Register notices such as this one, and (3) OMB's database of approved information collections.

Taxpayer Burden

Burden is defined as the time and out-of-pocket costs incurred by taxpayers in complying with the Federal tax system and are estimated separately. Out-of-pocket costs include any expenses incurred by taxpayers to prepare and submit their tax returns.

Examples include tax return preparation fees, the purchase price of tax preparation software, submission fees, photocopying costs, postage, and phone calls (if not toll-free).

Taxpayer Burden Estimates

Table 1 shows the preliminary burden estimates for individual taxpayers filing 2020 Form 1040, Form 1040NR, Form 1040NR-EZ, Form 1040X, 1040-SR tax return. The estimate is preliminary and reflects only the change in burden from technical adjustments related to updating the number of affected taxpayers to reflect the FY2020 forecast. The estimate will be revised to reflect legislative and regulatory changes since 2018 and further detail about the burden estimates will be provided for the 30-day notice for this FRN. Reported time and cost burdens are national averages and do not necessarily reflect a “typical” case. Most taxpayers experience lower than average burden, with taxpayer burden varying considerably by taxpayer type.

Internal Revenue Service (IRS)

Title: U.S. Individual Income Tax Return.

OMB Control Number: 1545-0074.

Type of Review: Revision of a currently approved collection.

Description: These forms and schedules are used by individuals to report their income tax liability. IRS uses the data collected on these forms and their schedules to compute tax liability and determine that the items claimed are properly allowable. This information is also used for general statistical purposes.

Form: Form 1040; Form 1040NR; Form 1040NR-EZ, Form 1040X, 1040-SR and all attachments and related forms (see the Appendix A to this notice).

Affected Public: Individuals and households.

Estimated Number of Respondents: 159,300,000.

Frequency of Response: Annually.

Total Estimated Time: 1.717 billion hours (1,717,000,000 hours).

Estimated Time per Respondent: 10.79 hours.

Total Estimated Out-of-Pocket Costs: $33.267 billion ($33,267,000,000).

Estimated Out-of-Pocket Cost per Respondent: $209.

Total Monetized Burden Costs: $60.997 billion ($60,997,000,000).

Estimated Total Monetized Burden per Respondent: $383.

Note: Amounts below are for FY2020. Reported time and cost burdens are national averages and do not necessarily reflect a “typical” case. Most taxpayers experience lower than average burden, with taxpayer burden varying considerably by taxpayer type. Detail may not add due to rounding.

Table 1—ICB Estimates for the 1040/SR/NR/NR-EZ/X Series of Returns and Supporting Forms and Schedules FY2020
| FY19 | Program change due to adjustment | Program change due to new legislation | Program change due to agency | FY20
Number of Taxpayers | 157,800,000 | * 1,500,000 |  |  | 159,300,000
Burden in Hours | 1,784,000,000 | (57,000,000) | (10,000,000) |  | 1,717,000,000
Burden in Dollars | 31,764,000,000 | 1,630,000,000 | (127,000,000) |  | 33,267,000,000
Monetized Total Burden | 60,225,000,000 | 997,000,000 | (223,000,000) | (2,000,000) | 60,997,000,000
Source RAAS:KDA (11-1-19).
* The Program change is 1,600,000. The table reflects the mathematical change after rounding.

Table 2 below provides information specific to taxpayer burden incurred by Form 1040 filers.

Table 2—All Form 1040 Filers
| Percentage of returns | Time burden: Average time burden (hours): Total time | Time burden: Average time burden (hours): Record keeping | Time burden: Average time burden (hours): Tax planning | Time burden: Average time burden (hours): Form completion and submission | Time burden: Average time burden (hours): All other | Money burden: Average cost
All Taxpayers | 100 | 11 | 5 | 2 | 4 | 1 | $210
Type of Taxpayer:
Non-business * | 72 | 7 | 2 | 1 | 3 | 1 | 130
Business * | 28 | 20 | 11 | 3 | 5 | 1 | 410
Detail may not add to total due to rounding. Dollars rounded to the nearest $10.
* A “business” filer files one or more of the following with Form 1040: Schedule C, C-EZ, E, F, Form 2106, or 2106-EZ. A “non-business” filer does not file any of these schedules or forms with Form 1040.

(Authority: 44 U.S.C. 3501 et seq.)

Dated: December 13, 2019.
Spencer W. Clark,
Treasury PRA Clearance Officer.

Appendix A
Form No. | Form name
Form 1040 | U.S. Individual Tax Return.
Form 1040 X | Amended U.S. Individual Income Tax Return.
Form 1040 NR | U.S. Nonresident Alien Income Tax Return.
Form 1040 NR-EZ | U.S. Income Tax Return for Certain Nonresident Aliens with No Dependents.
Schedule A (1040) | Itemized Deductions.
Schedule B (Form 1040) | Interest and Ordinary Dividends.
Schedule C (Form 1040) | Profit or Loss from Business.
Schedule C-EZ (Form 1040) | Net Profit from Business.
Schedule D (Form 1040) | Capital Gains and Losses.
Schedule E (Form 1040) | Supplemental Income and Loss.
Schedule EIC (Form 1040) | Earned Income Credit.
Schedule F (Form 1040) | Profit or Loss from Farming.
Schedule H (Form 1040) and Sch H(PR) | Household Employment Taxes.
Schedule J (Form 1040) | Income Averaging for Farmers and Fishermen.
Schedule R (Form 1040) | Credit for the Elderly or the Disabled.
Schedule SE (Form 1040) | Self-Employment Tax.
Form 1040 V | Payment Voucher.
Form 1040 ES/OCR | Estimated Tax for Individuals (Optical Character Recognition with Form 1040V).
Form 1040 ES | Estimate Tax for Individuals.
Form 673 | Statement for Claiming Exemption from Withholding on Foreign Earned Income Eligible for the Exclusions Provided by Section 911.
Form 926 | Return by a U.S. Transferor of Property to a Foreign Corporation.
Form 970 | Application to Use LIFO Inventory Method.
Form 972 | Consent of Shareholder to Include Specific Amount in Gross Income.
Form 982 | Reduction of Tax Attributes Due to Discharge of Indebtedness (and Section 1082 Basis Adjustment).
Form 1045 | Application for Tentative Refund.
Form 1116 | Foreign Tax Credit.
Form 1127 | Application for Extension of Time for Payment of Tax.
Form 1128 | Application to Adopt, Change, or Retain a Tax Year.
Form 1310 | Statement of Person Claiming Refund Due to a Deceased Taxpayer.
Form 2106 | Employee Business Expenses.
Form 2106-EZ | Unreimbursed Employee Business Expenses.
Form 2120 | Multiple Support Declaration.
Form 2210 | Underpayment of Estimated Tax by Individuals, Estates, and Trusts.
Form 2210-F | Underpayment of Estimated Tax by Farmers and Fishermen.
Form 2350 | Application for Extension of Time to File U.S. Income Tax Return.
Form 2350 SP | Solicitud de Prorroga para Presentar la Declaracion del Impuesto Personal sobre el Ingreso de lose Estados Unidos.
Form 2439 | Notice to Shareholder of Undistributed Long-Term Capital Gains.
Form 2441 | Child and Dependent Care Expenses.
Form 2555 | Foreign Earned Income.
Form 2555 EZ | Foreign Earned Income Exclusion.
Form 2848 | Power of Attorney and Declaration of Representative.
Form 3115 | Application for Change in Accounting Method.
Form 3468 | Investment Credit.
Form 3520 | Annual Return to Report Transactions with Foreign Trusts and Receipt of Certain Foreign Gifts.
Form 3800 | General Business Credit.
Form 3903 | Moving Expenses.
Form 4029 | Application for Exemption from Social Security and Medicare Taxes and Waiver of Benefits.
Form 4070 | Employee's Report of Tips to Employer.
Form 4070A | Employee's Daily Record of Tips.
Form 4136 | Credit for Federal Tax Paid on Fuels.
Form 4137 | Social Security and Medicare Tax on Underreported Tip Income.
Form 4255 | Recapture of Investment Credit.
Form 4361 | Application for Exemption From Self-Employment Tax for Use by Ministers, Members of Religious Orders, and Christian Science Practitioners.
Form 4562 | Depreciation and Amortization.
Form 4563 | Exclusion of Income for Bona Fide Residents of American Samoa.
Form 4684 | Casualties and Thefts.
Form 4797 | Sale of Business Property.
Form 4835 | Farm Rental Income and Expenses.
Form 4852 | Substitute for Form W-2, Wage and Tax Statement or Form 1099-R, Distributions From Pension Annuities, Retirement or Profit-Sharing Plans, IRAs, Insurance Contracts, etc.
Form 4868 | Application for Automatic Extension of Time to Tile Individual U.S. Income Tax Return.
Form 4868 SP | Solicitud de Prorroga Automatica para Presentar la Declaracion del Impuesto sobre el Ingreso Personal de los Estados Unidos.
Form 4952 | Investment Interest Expense Deduction.
Form 4970 | Tax on Accumulation Distribution of Trusts.
Form 4972 | Tax on Lump-Sum Distributions.
Form 5074 | Allocation of Individual Income Tax To Guam or the Commonwealth of the Northern Mariana Islands (CNMI).
Form 5213 | Election to Postpone Determination as to Whether the Presumption Applies that an Activity is Engaged in for Profit.
Form 5329 | Additional Taxes on Qualified Plans (Including IRAs) and Other Tax-Favored Accounts.
Form 5405 | First-Time Homebuyer Credit.
Form 5471 | Information Return of U.S. Persons with Respect to Certain Foreign Corporations.
Schedule J (Form 5471) | Accumulated Earnings and Profits (E&P) and Taxes of Controlled Foreign Corporations.
Schedule M (Form 5471) | Transactions Between Controlled Foreign Corporation and Shareholders or Other Related Persons.
Schedule O (Form 5471) | Organization or Reorganization of Foreign Corporation, and Acquisitions and Dispositions of its Stock.
Form 5695 | Residential Energy Credits.
Form 5713 | International Boycott Report.
Schedule A (Form 5713) | International Boycott Factor (Section 999(c)(1)).
Schedule B (Form 5713) | Specifically Attributable Taxes and Income (Section 999(c)(2)).
Schedule C (Form 5713) | Tax Effect of the International Boycott Provisions.
Form 5754 | Statement by Person(s) Receiving Gambling Winnings.
Form 5884 | Work Opportunity Cost.
Form 6198 | At-Risk Limitations.
Form 6251 | Alternative Minimum Tax-Individuals.
Form 6252 | Installment Sale Income.
Form 6478 | Credit for Alcohol Used as Fuel.
Form 6765 | Credit for Increasing Research Activities.
Form 6781 | Gains and Losses From Section 1256 Contracts and Straddles.
Form 8082 | Notice of Inconsistent Treatment or Administrative Adjustment Request (AAR).
Form 8275 | Disclosure Statement.
Form 8275-R | Regulation Disclosure Statement.
Form 8283 | Noncash Charitable Contributions.
Form 8332 | Release of Claim to Exemption for Child of Divorced or Separated Parents.
Form 8379 | Injured Spouse Claim and Allocation.
Form 8396 | Mortgage Interest Credit.
Form 8453 | U.S. Individual Income Tax Declaration for an IRS e-file Return.
Form 8582 | Passive Activity Loss Limitation.
Form 8582-CR | Passive Activity Credit Limitations.
Form 8586 | Low-Income Housing Credit.
Form 85948801 | Asset Acquisition Statement.
Form 8606 | Nondeductible IRAs.
Form 8609-A | Annual Statement for Low-Income Housing Credit.
Form 8611 | Recapture of Low-Income Housing Credit.
Form 8615 | Tax for Certain Children Who Have Investment Income of More than $1,800.
Form 8621 | Return by a Shareholder of a Passive Foreign Investment Company or Qualified Electing Fund.
Form 8621-A | Late Deemed Dividend or Deemed Sale Election by a Passive Foreign Investment Company.
Form 8689 | Allocation of Individual Income Tax to the Virgin Islands.
Form 8693 | Low-Income Housing Credit Disposition Bond.
Form 8697 | Interest Computations Under the Look-Back Method for Completed Long-Term Contracts.
Form 8801 | Credit for Prior Year Minimum Tax—Individuals, Estates, and Trusts.
Form 8812 | Additional Child Tax Credit.
Form 8814 | Parents' Election to Report Child's Interest and Dividends.
Form 8815 | Exclusion of Interest From Series EE and I U.S. Savings Bonds Issued After 1989.
Form 8818 | Optional Form to Record Redemption of Series EE and I U.S. Savings Bonds Issued After 1989.
Form 8820 | Orphan Drug Credit.
Form 8821 | Tax Information Authorization.
Form 8822 | Change of Address.
Form 8824 | Like-Kind Exchanges.
Form 8826 | Disabled Access Credit.
Form 8828 | Recapture of Federal Mortgage Subsidy.
Form 8829 | Expenses for Business Use of Your Home.
Form 8832 | Entity Classification Election.
Form 8833 | Treaty-Based Return Position Disclosure Under Section 6114 or 7701(b).
Form 8834 | Qualified Electric Vehicle Credit.
Form 8835 | Renewable Electricity and Refined Coal Production Credit.
Form 8838 | Consent to Extend the Time to Assess Tax Under Section 367—Gain Recognition Statement.
Form 8839 | Qualified Adoption Expenses.
Form 8840 | Closer Connection Exception Statement for Aliens.
Form 8843 | Statement for Exempt Individuals and Individuals With a Medical Condition.
Form 8844 | Empowerment Zone and Renewal Community Employment Credit.
Form 8845 | Indian Employment Credit.
Form 8846 | Credit for Employer Social Security and Medicare Taxes Paid on Certain Employee tips.
Form 8853 | Archer MSAs and Long-Term Care Insurance Contracts.
Form 8854 | Initial and Annual Expatriation Information Statement.
Form 8858 | Information Return of U.S. Persons With Respect to Foreign Disregarded Entities.
Schedule M (Form 8858) | Transactions Between controlled Foreign Disregarded Entity and Filer or Other Related Entities.
Form 8859 | District of Columbia First-Time Homebuyer Credit.
Form 8862 | Information to Claim Earned Income Credit After Disallowance.
Form 8863 | Education Credits.
Form 8864 | Biodiesel Fuels Credit.
Form 8865 | Return of U.S. Persons With Respect to Certain Foreign Partnerships.
Schedule K-1 | Partner's Share of Income Deductions, Credits, etc.
Schedule O (Form 8865) | Transfer of Property to a Foreign Partnership.
Schedule P (Form 8865) | Acquisitions, Dispositions, and Changes of Interests in a Foreign Partnership.
Form 8866 | Interest Corporation Under the Look-Back Method for Property Depreciated Under the Income Forecast Method.
Form 8873 | Extraterritorial Income Exclusion.
Form 8874 | New Markets Credit.
Form 8878 | IRS e-file Signature Authorization for Form 4686 or Form 2350.
Form 8878 SP | Autorizacion de firma para presentar por medio del IRS e-file para el Formulario 4868 (SP) o el Formulario 2350 (SP).
Form 8879 | IRS e-file Signature Authorization.
Form 8879 SP | Autorizacion de firm para presentar la Declaracion por medio del IRS e-file.
Form 8880 | Credit for Qualified Retirement Savings Contributions.
Form 8881 | Credit for Small Employer Pensions Plan Startup Costs.
Form 8882 | Credit for Employer-Provided Childcare Facilities and Services.
Form 8885 | Health Coverage Tax Credit.
Form 8886 | Reportable Transaction Disclosure Statement.
Form 8888 | Direct Deposit of Refund to More than One Account.
Form 8889 | Health Savings Accounts (HSAs).
Form 8896 | Low Sulfur Diesel Fuel Production Credit.
Form 8898 | Statement for Individuals Who Begin or End Bona Fide Residence in a U.S. Possession.
Form 8900 | Qualified Railroad Track Maintenance Credit.
Form 8903 | Domestic Production Activities Deduction.
Form 8906 | Distills Spirits Credit.
Form 8907 | Nonconventional Source Fuel Credit.
Form 8908 | Energy Efficient Home Credit.
Form 8910 | Alternative Motor Vehicle Credit.
Form 8911 | Alternative Fuel Vehicle Refueling Property Credit.
8912 | Credit to Holders of Tax Credit Bonds.
Form 8917 | Tuition and Fees Deduction.
Form 8919 | Uncollected Social Security and Medicare Tax on Wages.
Form 8925 | Report of Employer-Owned Life Insurance Contracts.
Form 8932 | Credit for Employer Differential Wage Payments.
Form 8933 | Carbon Dioxide Sequestration Credit.
Form 8936 | Qualified Plug-In Electric Drive Motor Vehicle Credit.
Form 9465 | Installment Agreement Request.
Form 9465 SP | Solicitud para un Plan de Pagos a Plazos.
Form SS-4 | Application for Employer Identification Number.
Form SS-8 | Determination of Worker Status for Purposes of Federal Employment Taxes and Income Tax Withholding.
Form T (Timber) | Forest Activities Schedules.
Form W-4 | Employee's Withholding Allowance Certificate.
Form W-4 P | Withholding Certificate for Pension or Annuity Payments.
Form W-4 S | Request for Federal Income Tax Withholding From Sick Pay.
Form W-4 V | Voluntary Withholding Request.
Form W-4 (SP) | Certificado de Exencion de la Retencion del Empleado.
Form W-7 | Application for IRS Individual Taxpayer Indentification Number.
Form W-7 A | Application for Taxpayer Identification Number for Pending U.S. Adoptions.
Form W-7 (SP) | Solicitud de Numero de Indenticacion Personal del Contribuyente del Servico de Impuestos Internos.
Form 1040 ES (NR) | U.S. Estimated Tax for Nonresident Alien Individuals.
Form 1040 ES (PR) | Federales Estimadas del Trabajo por Cuenta Propia y sobre el Impleo de Empleados Domestocs—Puerto Rico.
W-7 (COA) | Certificate of Accuracy for IRS Individual Taxpayer Identification Number.
Form 1040 Schedule 1 | Form 1040 Schedule 1 Additional Income and Adjustments to Income.
Form 1040 Schedule 2 | Form 1040 Schedule 2 Tax.
Form 1040 Schedule 3 | Form 1040 Schedule 3 Nonrefundable Credits.
Form 1040 Schedule 4 | Form 1040 Schedule 4 Other Taxes.
Form 1040 Schedule 5 | Form 1040 Schedule 5 Other payments and Refundable Credits.
Form 1040 Schedule 6 | Form 1040 Schedule 6 Foreign Address and Third Party Designee.
Form 1040-C | U.S. Departing Alien Income Tax Return.
Form 1040-SR | U.S. Income Tax Return for Seniors.
Form 8867 | Paid Preparer's Due Diligence Checklist.
Form 8915-C | Qualified 2018 Disaster Retirement Plan Distributions and Repayments.
Form 8958 | Allocation of Tax Amounts Between Certain Individuals in Community Property States.
Form 8962 | Premium Tax Credit (PTC).
Form 965-C | Form 965-C, Transfer Agreement Under 965(h)(3).
Form 3911 | Taxpayer Statement Regarding Refund.
Form 8857 | Request for Innocent Spouse Relief.
Form 8302 | Electronic Deposit of Tax Refund of $1 Million or more.
Form 14039 | Identity Theft Affidavit.
Form 14095 | The Health Coverage Tax Credit (HCTC) Reimbursement Request Form.
Form 8938 | Statement of Specified Foreign Financial Assets.

[FR Doc. 2019-27285 Filed 12-17-19; 8:45 am]

BILLING CODE 4830-01-P